DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Information Seeking Behaviors and Preferences of Summer Undergraduate Research Fellowship (SURF) Program Students.

Form Number(s): None.

OMB Approval Number: None.

Type of Review: Regular submission.

Burden Hours: 33.

Number of Respondents: 100.

Average Hours per Response: 20 minutes.

Needs and Uses: This study will determine how the next generation of scientists, frequently referred to as the `Millennial Generation,' will seek scientific information in their research. This generation was born between 1982 and 2000 and has grown up with information technology. General studies show this population has technological preferences for receiving and integrating content, and this study is to learn if this extends to the scientific content among young scientists. It will identify most useful (and most desired) devices and formats, so that the NIST's Information Services Division can plan to serve the next generation of scientists. The project plans to use SURF students who work at NIST every summer as the test population.

Affected Public: Individuals or households.

Frequency: On occasion.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5167, or Jasmeet_K._Seehra@omb.eop.gov).

Dated: May 31, 2007.
Gwellnar Banks,
Management Analyst, Office of the Chief Information Officer.

[FR Doc. E7-10946 Filed 6-5-07; 8:45 am]

BILLING CODE 3510-13-P